DEPARTMENT OF LABOR

Employment and Training Administration

Notice of Determinations Regarding Eligibility To Apply for Trade Adjustment Assistance

In accordance with the Section 223 (19 U.S.C. 2273) of the Trade Act of 1974 (19 U.S.C. 2271, et seq.) (“Ac92862t”), as amended, the Department of Labor herein presents summaries of determinations regarding eligibility to apply for trade adjustment assistance under Chapter 2 of the Act (“TAA”) for workers by (TA-W) number issued during the period of May 16, 2018 through July 13, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
92,977 | Meggitt Control Systems, Meggitt-USA, Whittaker Control Systems, Belcan Corporation, CDI, etc | Corona, CA | June 27, 2016.
93,517 | Triumph Aerostructures, Marshall Street Facility, Triumph Aerospace Structure, Triumph Group | Grand Prairie, TX | February 2, 2017.
93,556 | TIDI Products, LLC, TIDI Products Holdings, LLC, Aerotek, Inc | Fenton, MI | February 13, 2017.
93,696 | Energy Fuels Resources (USA), Inc | Blanding, UT | March 22, 2017.
93,696A | Energy Fuels Resources (USA), Inc., Henry Mountain Tony M. Mine, Price Mine Services | Ticaboo, UT | March 22, 2017.
93,696B | Energy Fuels Resources (USA), Inc., Canyon Mine, Price Mine Services | Tusayan, AZ | March 22, 2017.
93,743 | Necco | Revere, MA | April 18, 2017.
93,758 | Endura Products Tennessee, LLC, Endura Products, Express Employment, Metro Industrial, Staffing Solutions | Sparta, TN | April 24, 2017.
93,769 | Alice Manufacturing Company, Inc., Ellison Plant | Easley, SC | April 27, 2017.
93,784 | Eaton Corporation, CPD division, Barpellam | Horseheads, NY | May 1, 2017.
93,812 | Ajax X Ray, Inc., Foundry Division | Sayre, PA | May 10, 2017.
93,867 | University of Kansas Health System St. Francis Campus, Transcription Services, Ardent Health System, Sisters of Charity | Topeka, KS | June 1, 2017.

The following certifications have been issued. The requirements of Section 222(a)(2)(B) (Shift in Production or Services to a Foreign Country Path or Acquisition of Articles or Services from a Foreign Country Path) of the Trade Act have been met.

TA-W No. | Subject firm | Location | Impact date
92,880 | Nexon America, Inc., Nexon Co. Limited (Japan), Target CW, Offer Base Designers | El Segundo, CA | May 9, 2016.
93,284 | Selectel, Inc | Fremont, NE | November 6, 2016.
93,406 | Armstrong World Industries, Inc., St. Helens Ceilings Plant, Cardinal Services, Inc., Terra Staffing Group | St. Helens, OR | January 5, 2017.
93,412 | AT&T Communications (Southwestern Bell Telephone Company), AT&T Digital, Retail and Care, AT&T, Access World Wide, Convergys, etc | Wichita, KS | January 9, 2017.
93,420 | First American Title Insurance Company, Pro Unlimited, Roseville, California, First American Title Insurance Company | Lakeport, CA | January 11, 2017.
93,450 | Nike, Inc., Technical Support Service, Global Human Resources, Pro Unlimited | Beaverton, OR | January 23, 2017.
93,451 | Vishay Siliconix, Siliconix Mosfets | Santa Clara, CA | January 24, 2017.
93,491 | Talbot Industries, Leggett & Platt, Manpower, Peoplelink Staffing | Neosho, MO | January 18, 2017.
93,558 | ITW Global Tire Repair, Illinois Tool Works (ITW), Hughes Staffing Agency | Little Rock, AR | February 16, 2017.
93,575 | ACE American Insurance Company dba Chubb, IT integration department, Chubb Limited and Chubb INA Holdings Inc | Simsbury, CT | February 26, 2017.
93,610 | Littler Diecast, Brahm Corporation | Albany, IN | March 4, 2017.
93,634 | Lexis Nexis, RELX Division, Reed Elsevier Lexis Nexis (RELX), Allegis | Miamisburg, OH | March 12, 2017.
93,646 | United Technologies Electronic Controls, Inc., Aerotek, Kelly Services, Business Health Solutions PC | Huntington, IN | March 14, 2017.
93,647A | Republic Fastener Manufacturing, Inc., Arconic Inc., 1300 Rancho Conejo Boulevard, Headway Staffing, Kelly, etc | Newbury Park, CA | March 16, 2017
93,648 | Boston Scientific Corporation, Neuromodulation Division, Talent Choice | Valencia, CA | March 16, 2017.
93,673 | Qualified Billing and Collections RMC, LLC, ModernHR | Los Angeles, CA | March 21, 2017.
93,677 | Semblant, Inc., Semblant Limited | Scotts Valley, CA | March 23, 2017.
93,679 | Aviation Partners Boeing Inc., Aviation Partners, The Boeing Company, CTS, PDS Tech, LMI Aerospace (TASS) | Seattle, WA | March 26, 2017.
93,687 | JPMorgan Chase & Co., Commercial Banking Wholesale Lending Services Credit Services | Louisville, KY | March 29, 2017.
93,694 | American Express Travel Related Services Company Inc., American Express Company, Global New Accounts, Specialist-Loss Prevention | Salt Lake City, UT | March 20, 2017.
93,695 | Elsevier Inc., Relx, Populous | Maryland Heights, MO | August 20, 2017.
93,704 | Electrolux Home Products, Inc., Freezer Division, Electrolux North America, Atlas Staffing | St. Cloud, MN | April 5, 2017.
93,707 | GroupSystems Corporation, Quality Assurance Department | Denver, CO | April 6, 2017.
93,712 | MAHLE Filter Systems NA, Raine Recruiting LLC, Des Employment Group, Elite Staffing Inc | Winterset, IA | April 9, 2017.
93,719 | NAU International Inc., Design Department, Black Yak Ltd, Co., Office Team, A Robert Half Company | Portland, OR | April 12, 2017.
93,720 | Ericsson, Inc., Global Logic, CCM Consulting, L305 | Piscataway, NJ | April 11, 2017.
93,721 | Toyo Tire Mexico LLC, Toyo Tire & Rubber Co., Ltd | Chula Vista, CA | April 10, 2017.
93,723 | Steelcase Inc., Administrative Services Group, The Manpower Group, Expiries | Grand Rapids, MI | April 11, 2017.
93,723A | Steelcase Inc., Administrative Services Group, The Manpower Group, Expiries | Kentwood, MI | April 11, 2017.
93,724 | Fram Group, Autolite Division, Geometric Results Inc | Fostoria, OH | April 22, 2018.
93,725 | Hewlett Packard Enterprise, Global Support Delivery Supply Chain division, HP Inc | Andover, MA | April 12, 2017.
93,726 | Lonza America Inc., Lonza Group Ltd., Robert Half Services, Kelly Services | Allendale, NJ | April 11, 2017.
93,726A | Lonza America Inc., Lonza Group Ltd., Robert Half Services, Kelly Services | Alpharetta, GA | April 11, 2017.
93,726B | Lonza America Inc., Lonza Group Ltd., Robert Half Services, Kelly Services | Charleston, TN | April 11, 2017.
93,726C | Lonza America Inc., Lonza Group Ltd., Robert Half Services, Kelly Services | Portsmouth, NH | April 11, 2017.
93,726D | Lonza America Inc., Lonza Group Ltd., Robert Half Services, Kelly Services | Rochester, NY | April 11, 2017.
93,726E | Lonza America Inc., Lonza Group Ltd., Robert Half Services, Kelly Services | Walkersville, MD | April 11, 2017.
93,735 | Hutchinson Technology Incorporated, TDK | Hutchinson, MN | April 19, 2018.
93,736 | Mayer Industries Inc., Mayer & CIE GmbH & Co. KG, Kilgore Group, Inc., Staffmark | Orangeburg, SC | April 17, 2017.
93,740 | The Northern Trust Company, IT Department, Northern Trust Corporation, Tata America International, etc | Naperville, IL | April 18, 2017.
93,740A | The Northern Trust Company, IT Department, Northern Trust Corporation, Infosys, Cognizant, etc | Chiago, IL | April 18, 2017.
93,742 | Digital First Media, Bay Area News Group, Digital First Media/Media News Group, Labor Ready, etc | San Jose, CA | April 18, 2017.
93,742A | East Bay Times, Bay Area News Group, Labor Ready, Robert Half | Antioch, CA | April 18, 2017.
93,747 | CTS Corporation, Specialized Staffing | Elkhart, IN | September 1, 2018.
93,747A | Forge Industrial Staffing and D.O.L.S. Managed Workforce Inc., CTS Corporation | Elkhart, IN | April 20, 2017.
93,750 | Yellow Pages Digital and Media Solutions, LLC, Yellow Pages Digital and Media Solutions, Ltd., Print Production Support | Indianapolis, IN | April 20, 2017.
93,751 | Computershare Inc., Canton Finance Group, Computershare Limited, Adecco Staffing | Canton, MA | April 23, 2017.
93,762 | VMware, Inc., Dell Technologies Inc., Nicira, Inc., Kelly Services Inc | Palo Alto, CA | April 24, 2017.
93,766 | Harmonic Inc., Northwest Chip Design, Inc., West Valley Staffing Group | Beaverton, OR | April 25, 2017.
93,767 | HEIDENHAIN Corporation, Dr. Johannes HEIDENHAIN GmbH, Adecco | Jamestown, NY | April 25, 2017.
93,777 | Siemens Shared Services, Employee Data Management, Randstad Sourceright | Orlando, FL | April 26, 2017.
93,782 | Puppet, Inc., Puppet Labs, Inc., Corporate Sales, Human Resources, Finance, etc | Portland, OR | April 30, 2017.
93,783 | Westhaven, Inc | Yuba City, CA | April 30, 2017.
93,785 | Integrated Manufacturing and Assembly, Detroit Plant, Seating, Comer Holdings & Lear Corporation, Vetbuilt | Detroit, MI | May 1, 2017.
93,786 | Owens Corning Technical Fabrics, LLC, Owens Corning Composite Materials, LLC, The Bartech Group | Brunswick, ME | May 1, 2017.
93,789 | C&D Zodiac, Inc., Helpmates, Volt, Superb Tech, Peak, Kelly Services, Konnect, etc | Garden Grove, CA | April 30, 2017.
93,792 | HarbisonWalker International, Inc., HarbisonWalker International Holdings, Inc | Oak Hill, OH | November 30, 2017.
93,793 | Hubbell Lighting Hudson, Hubbell Lighting, Inc., Hubbell Inc., Hudson Staffing, Express Employment | Hudson, WI | May 3, 2017.
93,795 | Ministry Health Care Inc., Patient Financial Services Branch, Ascension Health | Woodruff, WI | May 3, 2017.
93,796 | Finastra USA Corporation, Aerotek, Accountemps, Ultimate Staffing, TCS | Portland, OR | May 3, 2017.
93,798 | Joyson Safety Systems, Moses Lake division, KSS Acquisition Company, TK Holdings Inc., etc | Moses Lake, WA | May 2, 2017.
93,801 | BAE Applied Intelligence US Corp., BAE Systems PLC | Denver, CO | May 7, 2017.
93,803 | Philips Lighting North America Corp., Business Professional Americas, Philips Lighting BV, etc | Fall River, MA | April 30, 2017.
93,804 | Ricoh, USA, Inc., Ricoh America Holdings, All Source PPS, Amerit Consulting, Apple One, etc | Boulder, CO | May 7, 2017.
93,806 | Hampton Products International Corporation | Willimantic, CT | May 8, 2017.
93,807 | Hampton Products International Corporation | Rice Lake, WI | May 8, 2017.
93,810 | ReviewBuzz Inc | Oceanside, CA | May 9, 2017.
93,811 | RF Digital Corporation, AMS Group | Hermosa Beach, CA | May 9, 2017.
93,813 | ContiTech USA, Inc., ContiTech division, Continental AG, Manpower | Hannibal, MO | May 10, 2017.
93,822 | Infinite Electronics International, Inc., Hayden Idaho Division, Transtector Systems, Smiths Microwave Telecoms, etc | Hayden, ID | May 7, 2018.
93,822A | Provisional Recruiting & Staffing, Infinite Electronics International, Hayden Idaho Division, Inc | Hayden, ID | May 17, 2017.
93,826 | HarbisonWalker International, Inc., HarbisonWalker International Holdings, Inc | Claysburg, PA | May 18, 2017.
93,828 | SimplexGrinnell, Credit Card Team, Johnson Controls, Agile 1 | Westminster, MA | May 17, 2017.
93,832 | Dematic Corporation, KION Group | Grand Rapids, MI | April 16, 2018.
93,833 | Lord & Taylor LLC, Digital Department | Wilkes Barre, PA | May 21, 2017.
93,836 | Pacific Coast Title | Orange, CA | May 21, 2017.
93,837 | Astec America LLC, Engineering Design Center, Artesyn Embedded Technologies, Inc | Eden Prairie, MN | May 23, 2017.
93,839 | Arjo, Inc., Arjo AB, Patriot Technical, Contract Tech, Adecco NA | San Antonio, TX | May 24, 2017.
93,840 | Ericsson Inc., Packet Core User Plane Research and Development Group, etc | Santa Clara, CA | May 24, 2017.
93,843 | Jacobs Engineering Group, Inc., Jacobs Field Service North America, Aerotek, Air Energi/Airswiff, ASI, etc | Long Beach, CA | May 24, 2017.
93,846 | Dresser Rand, A Siemens Business, Power & Gas Division | Burlington, IA | May 22, 2017.
93,848 | Mylan Pharmaceuticals, Inc., Mylan Inc., Kelly Services, Manpower | Morgantown, WV | May 24, 2017.
93,849 | Sonus Networks, Inc., Research and Development, Ribbon Communications Inc., Genband US LLC | Morrisville, NC | May 25, 2017.
93,858 | Grass Valley, a Belden Brand, Belden, Inc., Adecco Temporary Agency | Grass Valley, CA | May 31, 2017.
93,862 | Vitec Production Solutions (formally Vitec Videocom), Vitec Group, Micro Tech Staffing Group, Michael Page International, etc | Shelton, CT | May 31, 2017.
93,866 | LogMeIn USA, Inc., LogMeIn, Inc., Volt Information Sciences, AppleOne, Robert Half | Goleta, CA | June 1, 2017.
93,868 | Smith & Nephew | Austin, TX | June 5, 2017.
93,869 | Benteler Automotive Corporation, Benteler Group, Accounts Payable Division, AccountTemps | Auburn Hills, MI | June 5, 2017.
93,870 | BIC Corporation, Societe BIC, IT Department, Bridgetown Computer, Grapevine Technology, etc | Shelton, CT | June 5, 2017.
93,871 | Thermo Fisher Scientific, Genetic Sciences, A.P.R., Adecco USA, Amerit Consulting, etc | Austin, TX | May 31, 2017.
93,873 | Infor (US), Inc | Grand Rapids, MI | June 6, 2017.
93,874 | Zodiac Electrical Inserts USA, Zodiac Electrical Inserts Reporting Unit, Zodiac Aerospace, etc | Huntington Beach, CA | May 31, 2017.
93,876 | Frank and Adam Apparel LLC | City of Industry, CA | June 7, 2017.
93,877 | Pavilion Data Systems, Isana Systems India Private Limited | San Jose, CA | June 6, 2017.
93,883 | Viavi Solutions Inc., Trilithic | Indianapolis, IN | June 11, 2017.
93,885 | Sonus Networks, Inc. d/b/a Ribbon Communications Operating Company, Ribbon Communications, Research and Development, etc | Freehold, NJ | May 30, 2017.
93,886 | SECO/WARWICK Corporation, SECO/WARWICK SA | Meadville, PA | October 21, 2017.
93,891 | Thermo Fisher Scientific, Laboratory Products Division, Life Sciences Solutions Group, Adecco, etc | Asheville, NC | June 13, 2017.
93,893 | Encompass Group LLC, Workforce, Hudson Industries | Richmond, VA | June 14, 2017.
93,894 | Pensmore Reinforcement Technologies, LLC, Workbox Staffing | Ann Arbor, MI | June 14, 2017.
93,900 | Honeywell Santa Ana Site, Safety and Productivity Solutions Division, Honeywell International, etc | Santa Ana, CA | June 18, 2017.
93,901 | IHG, Call Center division, Six Continents Hotels, Inc | North Charleston, SC | June 18, 2017.
93,904 | Digi International Inc., Aerotek, Pro Staff, Kelly Services | Eden Prairie, MN | June 19, 2017.
93,910 | IHG, Call Center division, Six Continents Hotels, Inc | Salt Lake City, UT | June 20, 2017.
93,912 | Mackie International Inc., Employment Solutions, Allegra Staffing | Riverside, CA | June 21, 2017.
93,914 | TE Connectivity, Express Pros, Kelly Services, Entegee/E91 | Budd Lake, NJ | June 21, 2017.
93,919 | TE Connectivity, Data and Devices Division, Kelly Services, Co-Worx | Worcester, MA | June 22, 2017.
93,927 | Transitions Optical, Inc | Pinellas Park, FL | July 13, 2018.
93,931 | Baxter Healthcare Corporation, Post Market Surveillance Group, Aerotek | Round Lake, IL | June 27, 2017.
93,947 | Transportation, Inc., Consolidated Call Center, Transportation General, etc | Arlington, VA | July 2, 2017.

The following certifications have been issued. The requirements of Section 222(b) (supplier to a firm whose workers are certified eligible to apply for TAA) of the Trade Act have been met.

TA-W No. | Subject firm | Location | Impact date
93,350 | HM Dunn Company, Inc., St. Louis Machining Division, Global Search Agency, The Experts | St. Louis, MO | December 6, 2016.
93,364 | Tokusen U.S.A., Inc., Scottsburg division, Manpower | Scottsburg, IN | December 6, 2016.
93,655 | Minnesota Power, Generation Division—Rapids Energy Center, Allete, Incorporated | Grand Rapids, MN | March 16, 2017.
93,655A | Allete, Incorporated, 30 W. Superior Street | Duluth, MN | March 16, 2017.
93,655B | Allete, Incorporated, 3215 W. Arrowhead Road | Duluth, MN | March 16, 2017.
93,655C | Minnesota Power, Boswell Energy Center, Allette, Incorporated | Cohasset, MN | March 16, 2017.
93,710 | Convergys | Omaha, NE | April 6, 2017.
93,797 | General Electric Transportation, General Electric Company | Grove City, PA | April 23, 2018.

The following certifications have been issued. The requirements of Section 222(e) (firms identified by the International Trade Commission) of the Trade Act have been met.

TA-W No. | Subject firm | Location | Impact date
93,488 | H. Kramer & Co. | Chicago, IL | April 20, 2016.
93,555 | Swanson Group Mfg., LLC, Roseburg Sawmill, Swanson Group, Express Employment Professionals | Roseburg, OR | December 28, 2016.
93,587 | Gerdau Ameristeel US Inc., GLN Division, Kelly Services, Aerotek, Allied Staffing, People Ready | Baldwin, FL | July 7, 2016.
93,772 | TAMCO, Gerdau-Rancho Cucamonga, Robert Half, US Security & Associates, etc | Rancho Cucamonga, CA | July 7, 2016.
93,774 | Keystone Bar Products, Inc., Keystone Consolidated Industries, Inc | Chicago Heights, IL | July 7, 2016.
93,775 | Keystone Consolidated Industries, Inc., Keystone Steel & Wire Division, ManPower, Kelly Services | Peoria, IL | July 7, 2016.
93,776 | Nucor Steel Kankakee, Inc., Nucor Corporation, Manpower US Inc., Robert Half International, Inc | Bourbonnais, IL | July 7, 2016.
93,790 | Commercial Metals Company, ManPower | Magnolia, AR | July 7, 2016.
93,829 | WIE-AGRON Bioenergy, LLC, AGRON Bioenergy, LLC, Western Iowa Energy, LLC | Watsonville, CA | December 28, 2016.
93,830 | American Biodiesel, Inc., doing business as Community Fuels, Aerotek | Stockton, CA | December 28, 2016.
93,831 | Crimson Renewable Energy, L.P., Aerotek | Bakersfield, CA | December 28, 2016.
93,834 | Imperial Western Products, Inc., AMB AG Enterprise, ATWork Franchise, Labor Ready Southwest, etc | Coachella, CA | December 28, 2016.
93,835 | New Leaf Biofuel, LLC | San Diego, CA | December 28, 2016.
93,842 | FutureFuel Chemical Company & Legacy Regional Transport, L.L.C., Arkansas division, FutureFuel Corporation | Batesville, AR | December 28, 2016.
93,847 | Incobrasa Industries, LTD, People4U | Gilman, IL | December 28, 2016.
93,852 | REG Danville, LLC, REG Biofuels, LLC | Danville, IL | December 28, 2016.
93,855 | Nucor Steel Auburn, Inc., Nucor Corporation, Aerotek, EFPR Group LLP | Auburn, NY | July 7, 2016.
93,906 | Sterling Steel Company, LLC, Leggett & Platt, Incorporated, SimpleVMS, Inc | Sterling, IL | January 18, 2017.
93,962 | Plymouth Tube Company, Addison Group, Advanced Resources, Cornerstone Staffing | Warrenville, IL | January 30, 2017.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
93,463 | California Psychology Associates | Valley Village, CA
93,600 | AECOM Technical Services, Inc. and URS Federal Services, Inc., Information Technology and HRIS division, AECOM | Glen Allen, VA
93,623 | The Travelers Indemnity Company, Travelers Companies, Inc., Personal Insurance Division | Spokane, WA
93,647 | Arconic Inc., Alcoa Fastening Systems, JW Manufacturing, Van Petty Operations, etc | Newbury Park, CA
93,650 | Sumitomo Rubber USA, LLC, Sumitomo Rubber Industries, Ltd., Remedy Staffing | Tonawanda, NY
93,771 | Cascade Steel Rolling Mills, Inc., El Monte Division, Express Employment Professionals | City of Industry, CA
93,856 | Ricoh USA, Inc. | Scottsbluff, NE

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,447 | Glencore Ltd., Glencore International AG | Stamford, CT
93,627 | LORD Corporation, Kelly Services, Modis (formerly Adecco) | Erie, PA
93,713 | Hudson Technologies Company, Hudson Technologies, Inc., Symmetry Search Group | Pearl River, NY
93,745 | CCMA, LLC | Amherst, NY
93,749 | Traxys North America LLC, Traxys Sarl | New York, NY

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,197 | Country Curtains, The Fitzpatrick Companies Inc | Lee, MA
93,197A | Housatonic Country Curtains, The Fitzpatrick Companies Inc | Great Barrington, MA
93,197B | Country Curtains, The Fitzpatrick Companies Inc | West Hartford, CT
93,197C | Country Curtains, The Fitzpatrick Companies Inc | Annapolis, MD
93,197D | Country Curtains, The Fitzpatrick Companies Inc | Avon, CT
93,197E | Country Curtains, The Fitzpatrick Companies Inc | Chester, NJ
93,197F | Country Curtains, The Fitzpatrick Companies Inc | Cranston, RI
93,197G | Country Curtains, The Fitzpatrick Companies Inc | Fishkill, NY
93,197H | Country Curtains, The Fitzpatrick Companies Inc | Greenville, DE
93,197I | Country Curtains, The Fitzpatrick Companies Inc | Hunt Valley, MD
93,197J | Country Curtains, The Fitzpatrick Companies Inc | Manhasset, NY
93,197K | Country Curtains, The Fitzpatrick Companies Inc | Naperville, IL
93,197L | Country Curtains, The Fitzpatrick Companies Inc | Pembroke, MA
93,197M | Country Curtains, The Fitzpatrick Companies Inc | Newington, NH
93,197N | Country Curtains, The Fitzpatrick Companies Inc | Richmond, VA
93,197O | Country Curtains, The Fitzpatrick Companies Inc | Rochester, NY
93,197P | Country Curtains, The Fitzpatrick Companies Inc | Shrewsbury, NJ
93,197Q | Country Curtains, The Fitzpatrick Companies Inc | Solon, OH
93,197R | Country Curtains, The Fitzpatrick Companies Inc | Stockbridge, MA
93,197S | Country Curtains, The Fitzpatrick Companies Inc | Sturbridge, MA
93,197T | Country Curtains, The Fitzpatrick Companies Inc | Sudbury, MA
93,197U | Country Curtains, The Fitzpatrick Companies Inc | Warrington, PA
93,197V | Country Curtains, The Fitzpatrick Companies Inc | Marlton, NJ
93,197W | Country Curtains, The Fitzpatrick Companies Inc | Richwood, NJ
93,197X | Country Curtains, The Fitzpatrick Companies Inc | East Westport, CT
93,443 | Kobayashi Healthcare International, Berlin Industries, Kobayashi Pharmaceutical Co. Ltd., OfficeTeam | North Lima, OH
93,475 | Vyaire Medical, Inc., Plymouth Facility | Plymouth, MN
93,480 | Quad/Graphics Inc., Waseca Facility, Masterson Staffing Solutions, Manpower Group US, Spherion | Waseca, MN
93,481 | AM General LLC, AM General Holdings LLC, Commercial Assembly | Mishawaka, IN
93,485 | CHS Inc., Processing & Food Ingredients Division, Aventure Staffing | South Sioux City, NE
93,496 | Transweb, LLC, Parker Industries, Staff Management SMX, Integrity Staffing, Lyneer | Vineland, NJ
93,578 | Tower International, Sentech Services, Worbox Staffing, CER Group NA | Clinton Township, MI
93,599 | Wyman Gordon, Precision Castparts Corp | North Grafton, MA
93,600A | AECOM Technical Services, Inc. and URS Federal Services, Inc., Payroll and Accounts Payable, AECOM, Office Team, Robert Half, etc | Glen Allen, VA
93,628 | Northstar Machine and Tool dba Northstar Aerospace | Duluth, MN
93,644 | Greenwich Associates US Inc., Greenwich Associates LLC | Cheektowaga, NY
93,668 | Chemring Energetic Devices, Inc., Chemring Group PLC | Torrance, CA
93,697 | Mississippi Lime Company, Huron Plant, Express Employment Professionals | Huron, OH
93,744 | Tanner Companies, LLC, Tanner Investments, Inc., APT Investments, Inc | Rutherfordton, NC
93,760 | Radial South, Radial Commerce, Inc., Adecco, LGS, Integrity Staffing Solutions | Memphis, TN
93,768 | Woolrich, Inc, Woolrich International Limited | New York, NY
93,768A | Woolrich, Inc, Woolrich International Limited | Woolrich, PA
93,780 | International Bildrite, Inc | International Falls, MN
93,815 | Rag & Bone Industries, LLC, Same Makers and Pattern Makers, Chief Supply Chain Officer Technical Serv | New York, NY
93,824 | A&W Screen Printing, Inc., Gage Personnel | Ephrata, PA
93,854 | Kiko USA, Inc., Kiko S.p.A | Los Angeles, CA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
93,709 | ADP, LLC | Portland, OR
93,763 | AK Steel | Butler, PA
93,787 | Airtronics Inc | Bellevue, WA
93,920 | TRG Customer Solutions, Inc., d/b/a Ibex | Indiana, PA

The following determinations terminating investigations were issued in cases where the petition regarding the investigation has been deemed invalid.

TA-W No. | Subject firm | Location | Impact date
93,671 | Midway Airport Concessionaires, Midway Airport | Chicago, IL
93,808 | Cascade Steel Rolling Mills | McMinnville, OR

The following determinations terminating investigations were issued because the worker group on whose behalf the petition was filed is covered under an existing certification.

TA-W No. | Subject firm | Location | Impact date
93,349 | TLC Companies | Seneca, KS
93,417 | Triumph Aerostructures, Triumph Aerospace Structure division, Triumph Group | Red Oak, TX
93,467 | Ericsson, Inc. | Waltham, MA
93,501 | Boyd Coffee Company | Portland, OR
93,656 | Axeon Refining LLC, Axeon Specialty Products LLC | San Antonio, TX
93,656A | Axeon Refining LLC, Axeon Specialty Products LLC | Stamford, CT
93,674 | Business Health Solutions, PC | Indianapolis, IN
93,698 | Boyd Coffee Company | Council Bluffs, IA
93,702 | Koppers Inc. | Follansbee, WV
93,728 | Technicolor Connected Home USA, Technicolor USA, Inc., 201 Continental Boulevard | El Segundo, CA
93,728A | Technicolor Connected Home USA, Technicolor USA, Inc., 400 Continental Boulevard | El Segundo, CA
93,734 | Modis E&T LLC, Applied Materials, Division of Common Solutions Manufacturing Group (CSMG) | Austin, TX
93,788 | Byer Steel | Cincinnati, OH
93,802 | Optum Health UHC | Richardson, TX
93,805 | U.S. Steel Tubular Products, Inc., Lone Star Tubular Operations, United States Steel Corporation | Lone Star, TX
93,879 | Eagle Family Foods Group LLC, Onin Staffing | Seneca, MO
93,880 | Savage Services, CraftForce, MPW Services, and Anderson Security, AES Ohio Generation (DP&L), JMSS Division | Aberdeen, OH
93,897 | Xerox, Customer Business Operations (CBO) division, Xerox Technology | Rosemont, IL
93,907 | Transamerican Auto Parts, TAP Worldwide, 4 Wheel Parts, Polaris Industries, Accounts Payable, etc | Compton, CA

The following determinations terminating investigations were issued because the petitioning group of workers is covered by an earlier petition that is the subject of an ongoing investigation for which a determination has not yet been issued.

TA-W No. | Subject firm | Location | Impact date
93,389 | Dex YP, Print Media, LLC, TriNet HR | Maryland Heighs, MO |

I hereby certify that the aforementioned determinations were issued during the period of May 16, 2018 through July 13, 2018. These determinations are available on the Department's website https://www.doleta.gov/tradeact/taa/taa_search_form.cfm under the searchable listing determinations or by calling the Office of Trade Adjustment Assistance toll free at 888-365-6822.

Signed at Washington, DC, this 19th day of July 2018.
Hope D. Kinglock,
Certifying Officer, Office of Trade Adjustment Assistance.

[FR Doc. 2018-18193 Filed 8-22-18; 8:45 am]

BILLING CODE 4510-FN-P